DEPARTMENT OF THE INTERIOR

Bureau of Land Management

[BLM_MT_FRN_MO4500178507]

Public Meeting for the Missouri Basin Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Missouri Basin Resource Advisory Council (RAC) will meet as follows.

DATES: The Missouri Basin RAC will meet on May 16, 2024, from 8 a.m. to 12 p.m. Mountain Time.

ADDRESSES: The meeting will be held at the DoubleTree by Hilton, 27 N 27th Street, Billings MT, 59101. A virtual participation option will also be available. Individuals that prefer to participate virtually must register with the individual listed in the FOR FURTHER INFORMATION CONTACT section of this notice at least 2 weeks in advance.

FOR FURTHER INFORMATION CONTACT: Mark Jacobsen, Missouri Basin RAC Coordinator, BLM Eastern Montana/Dakotas District, 111 Garryowen Road, Miles City, MT 59301; telephone: (406) 233-2831; email: mjacobse@blm.gov.

Individuals in the United States who are deaf, deafblind, hard of hearing, or have a speech disability may dial 711 (TTY, TDD, or TeleBraille) to access telecommunications relay services for contacting Mark Jacobsen. Individuals outside the United States should use the relay services offered within their country to make international calls to the point-of-contact in the United States.

SUPPLEMENTARY INFORMATION: The 15-member RAC advises the Secretary of the Interior, through the BLM, on a variety of planning and management issues associated with public land management in Central and Eastern Montana, and North and South Dakota. Meeting agenda topics may include North-Central and Eastern Montana/Dakotas District reports; presentations on the Upper Missouri River Breaks National Monument Left Coulee Access, the Snowy River CO2 Sequestration Project, and results of the North Dakota 2024 oil and gas lease sales; a public comment period; and other topics that may arise. A final agenda will be posted on the RAC's web page at https://www.blm.gov/get-involved/resource-advisory-council/near-you/montana-dakotas/missouri-basin-rac 2 weeks in advance of the meeting. The meeting is open to the public with a public comment period offered at 11:30. Written comments to the RAC can be emailed in advance to the individual listed in the FOR FURTHER INFORMATION CONTACT section of this notice. Depending on the number of persons wishing to comment and time available, the time for individual oral comments may be limited. Before including your address, phone number, email address, or other personal identifying information in your comments, please be aware that your entire comment, including your personal identifying information, may be made publicly available at any time. While you can ask us in your comment to withhold your personal identifying information from public review, we cannot guarantee that we will be able to do so.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

(Authority: 43 CFR 1784.4-2)

Wendy Warren,
Eastern Montana/Dakotas District Manager.

[FR Doc. 2024-08029 Filed 4-15-24; 8:45 am]

BILLING CODE 4331-20-P